DEPARTMENT OF DEFENSE

Department of the Army

Department of the Army; Corps of Engineers

Availability of the Draft Integrated City of Norfolk Coastal Storm Risk Management Feasibility Study Report/Environmental Impact Statement, Norfolk, VA

AGENCY: U.S. Army Corps of Engineers, Department of the Army, DoD.

ACTION: Notice of availability and public meeting.

SUMMARY: The U.S. Army Corps of Engineers (USACE) Norfolk District, in cooperation with our non-federal sponsor, the City of Norfolk, announce the availability of a Draft Integrated Feasibility Report and Environmental Impact Statement (Draft IFR/EIS) for the City of Norfolk Coastal Storm Risk Management Feasibility Study, for review and comment. The study evaluates identified flood risks and develops and evaluates coastal storm risk management measures for the City of Norfolk. These measures were formulated to reduce flood risk to residents, industries and businesses which are critical to the Nation's economy in ways that support the long-term resilience due to sea level rise, local subsidence and storms, within the City of Norfolk. Pursuant to the National Environmental Policy Act (NEPA) of 1969, as amended, the USACE determined that the project has the potential to have significant environmental impacts, and developed the draft EIS to examine and assess the impacts of all proposed action.

DATES: The Draft IFR/EIS is available for a 45-day review period, pursuant to the NEPA. Written comments pursuant will be accepted until the close of public review on the close of business on December 29, 2017.

ADDRESSES: Questions or comments concerning the Draft IFR/EIS may be directed to: Ms. Kathy Perdue, U.S. Army Corps of Engineers, Norfolk District, 803 Front Street, Norfolk, VA 23510 or NorfolkCSRM@usace.army.mil.

FOR FURTHER INFORMATION CONTACT: Ms. Kathy Perdue, U.S. Army Corps of Engineers, Norfolk District phone number (757) 201-7218, or NorfolkCSRM@usace.army.mil.

SUPPLEMENTARY INFORMATION: As part of the public involvement process, notice is hereby given by the USACE, Norfolk District, of a public review meeting that will be held on November 16, 2017, from 5:30 to 8:00 p.m., at the Attucks Theater located at 1010 Church Street, Norfolk, VA 23510. The public meeting will allow participants the opportunity to comment and ask questions on the Draft IFR/EIS. Attendance at the public meeting is not necessary to provide comments. Written comments may also be given to the contact listed under ADDRESSES.

The document is available for review at the following locations:

(1) The Norfolk Coastal Storm Risk Management Study Web site: http://www.nao.usace.army.mil/NCSRM.

(2) Copies at all City of Norfolk, Virginia Public Libraries.

Proposed Action. The Study Area is the City of Norfolk. The Proposed Action will include construction of the following measures within the City: Storm surge barriers with gate openings near the mouths of four waterways: The Lafayette River, Pretty Lake, The Hague, and Broad Creek; floodwalls flanking the barriers and near waterways at locations from Lamberts Point to Broad Creek; berms; tide gates at various points to prevent storm surge; generator buildings and pumps; nonstructural measures and ringwall components to protect existing structures; and Natural and Nature-Based features. Implementation of the Proposed Action would impact floodplains, wetlands, mudflats, federally listed threatened or endangered species, and marine mammals, and other resources. The Proposed Action must be located in a floodplain in order to reduce flood risk behind the flood protection system. The Proposed Action will adhere to the 8-step process as outlined under Executive Order 11988, Floodplain Management, including consideration of sea level rise.

Alternatives. The Draft IFR/EIS considers a full range of nonstructural and structural flood risk management alternatives that meet the Proposed Action's purpose and need and incorporate measures to avoid and minimize impacts to the maximum extent practicable. Alternatives included: (1) The No Build/Future Without Project Alternative, (2) a Structural Only Project Alternative, (3) a Nonstructural Only Project Alternative, and (4) a dual Structural and Nonstructural Project Alternative, which is the Preferred Alternative/Proposed Action.

Public Involvement. A Notice of Intent to prepare an EIS was published on April 29, 2016, in the Federal Register (81 FR 25656). A public scoping meeting was held on May 25, 2016, and a follow-up public meeting was held on June 8, 2017, both in the City of Norfolk. The U.S. Environmental Protection Agency serves as a cooperating agency for this project.

Brenda S. Bowen,
Army Federal Register Liaison Officer.

[FR Doc. 2017-23968 Filed 11-2-17; 8:45 am]

BILLING CODE 3720-58-P